DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, the United States Fish and Wildlife Service (USFWS), and the United States Army Corps of Engineers (USACOE).

SUMMARY: The FHWA, on behalf of Caltrans, is issuing this notice to announce actions taken by Caltrans, that are final within the meaning of 23 U.S.C. 139(l)(1). The actions relate to a proposed highway project along Interstate 805, San Diego, CA, PM: 4.4-15.8 in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 10, 2012. If the Federal law that authorizes judicial review of a claim provides a time period of less than 180 days for filing such claim, then that shorter time period still applies.

FOR FURTHER INFORMATION CONTACT: David Nagy, Environmental Branch Chief, Division of Environmental Analysis, Caltrans, District 11, 4050 Taylor St., San Diego, CA 91942, Office: 619-688-0224, e-mail: david.nagy@dot.ca.gov.

SUPPLEMENTARY INFORMATION: Effective July 1, 2007, the FHWA assigned, and Caltrans assumed environmental responsibilities for this project pursuant to 23 U.S.C. 327. Notice is hereby given that Caltrans, has taken final agency actions subject to 23 U.S.C. 139(l)(1) by issuing licenses, permits, and approvals for the following highway project in the State of California: The addition of four managed lanes and HOV/transit lanes and associated multi-modal facilities (two in each direction) on Interstate 805 (I-805) from just south of East Palomar Street overcrossing in the City of Chula Vista to the Landis Street overcrossing in the City of San Diego.

The actions by the Federal agencies, and the laws under which such actions were taken, are described in the Final Environmental Assessment (EA) for the project, approved on June 22, 2011 in the FHWA Finding of No Significant Impacts (FONSI) issued on June 15, 2011, and in other documents in the FHWA project records. The Environmental Impact Report & EA/FONSI, and other project records are available by contacting Caltrans at the addresses provided above. The Caltrans Final EA and FONSI can be viewed and downloaded from the project Web site at http://www.dot.ca.gov/dist11/. The USFWS decision is available within the environmental document at the above Web site as an appendix. Pending federal actions include:

• 401 Water Quality Certification from the Regional Water Quality Control Board, under Section 401 of the Clean Water Act.

• 404 Permit to Discharge Dredged or Fill Material, under Section 404 of the Clean Water Act.

This notice applies to all Federal agency decisions as of the issuance date of this notice and all laws under which such actions were taken, including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act Amendments of 1990;

7. Clean Water Act of 1977 and 1987;

8. Endangered Species Act of 1973;

9. Migratory Bird Treaty Act;

10. Title VI of the Civil Rights Act of 1964;

11. Uniform Relocation Assistance and Real Property Acquisition Act of 1970;

12. National Historic Preservation Act of 1966;

13. Historic Sites Act of 1935;

14. Executive Order 11990, Protection of Wetlands

15. Executive Order 13112, Invasive Species;

16. Executive Order 11988, Floodplain Management; and,

17. Executive Order 12898, Environmental Justice.

(Catalog of Federal Domestic Assistance Program Number 20.205, Highway Planning and Construction. The regulations implementing Executive Order 12372 regarding intergovernmental consultation on Federal programs and activities apply to this program.)

Authority: 23 U.S.C. 139(l)(1).

Issued on: July 7, 2011.
Maiser Khaled,
Acting Director, State Programs, Federal Highway Administration, Sacramento, California.

[FR Doc. 2011-17702 Filed 7-13-11; 8:45 am]

BILLING CODE 4910-RY-P